DEPARTMENT OF COMMERCE

International Trade Administration

[A-489-822]

Welded Line Pipe From the Republic of Turkey: Preliminary Determination of No Shipments and Partial Rescission of the Antidumping Duty Administrative Review; 2020-2021

AGENCY: Enforcement and Compliance, International Trade Administration, Department of Commerce.

SUMMARY: The U.S. Department of Commerce (Commerce) preliminarily finds that Cimtas Boru Imalatlari ve Ticaret, Ltd. Sti (Cimtas), the only company subject to review, had no shipments of subject merchandise during the period of review (POR), December 1, 2020, through November 30, 2021. In addition, we are rescinding this administrative review with respect to companies for which requests for review were timely withdrawn. Interested parties are invited to comment on these preliminary results.

DATES: Applicable August 30, 2022.

FOR FURTHER INFORMATION CONTACT: Christopher Hargett, AD/CVD Operations, Office II, Enforcement and Compliance, International Trade Administration, U.S. Department of Commerce, 1401 Constitution Avenue NW, Washington, DC 20230; telephone: (202) 482-4161.

SUPPLEMENTARY INFORMATION:

Background

In December 2015, Commerce published in the Federal Register an antidumping duty order on welded line pipe from the Republic of Turkey.¹ On December 1, 2021, Commerce published in the Federal Register a notice of opportunity to request an administrative review of the Order for the POR.² On December 30, 2021, Commerce received timely requests to conduct an administrative review of the Order, in accordance with section 751(a)(1) of the Tariff Act of 1930, as amended (the Act), from Maverick Tube Corporation, IPSCO Tubulars Inc., American Cast Iron Pipe Company, Dura-Bond Industries, and Stupp Corporation, a division of Stupp Bros., Inc. (collectively, the domestic interested parties).³ Based on these requests, on February 4, 2022, Commerce initiated an administrative review of the Order with respect to 19 companies.⁴ That same day, consistent with the Initiation Notice, Commerce released data from U.S. Customs and Border Protection (CBP) for purposes of respondent selection and provided interested parties an opportunity to comment on these data by February 11, 2022.⁵ Commerce received no comments on the CBP Data. In January and February 2022, four companies submitted certifications of no shipments.⁶

¹ See Welded Line Pipe from the Republic of Korea and the Republic of Turkey: Antidumping Duty Orders, 80 FR 75056 (December 1, 2015) (Order).

² See Antidumping or Countervailing Duty Order, Finding, or Suspended Investigation; Opportunity To Request Administrative Review, 86 FR 68215 (December 1, 2021).

³ See Maverick Tube Corporation and IPSCO Tubulars Inc.'s Letter, “Welded Line Pipe from the Turkey: Request for Administrative Review,” dated December 30, 2021; and American Cast Iron Pipe Company, Dura-Bond Industries, and Stupp Corporation, a division of Stupp Bros., Inc.'s Letter, “Welded Line Pipe from Turkey: Request for Administrative Review,” dated December 30, 2021.

⁴ See Initiation of Antidumping and Countervailing Duty Administrative Reviews, 87 FR 6487, 6491 (February 4, 2022) (Initiation Notice).

⁵ Id., 87 FR at 6487; see also Memorandum, “Release of U.S. Customs and Border Protection Entry Data,” dated February 4, 2022 (CBP Data).

⁶ See Çayirova Boru Sanayi ve Ticaret A.S. and Yucelboru Ihracat Ithalat ve Pazarlama A.S.'s Letter, “Line pipe from Turkey; Yucel No Shipments Letter,” dated January 4, 2022; Toscelik Profile and Sheet Industry, Co. and Tosyalı Dis Ticaret A.S.'s Letter, “Line pipe from Turkey; Toscelik No-Shipments letter,” dated January 4, 2022; Noksel Çelik Boru Sanayi A.S.'s Letter, “Welded Line Pipe from Turkey (A-489-822): Anti-Dumping Duty Order Administrative Review (12/1/20—11/30/21),” dated February 11, 2022; and Borusan Mannesmann Boru Sanayi ve Ticaret A.S.'s Letter, “Welded Line Pipe from Turkey, Case No. A-489-822: Notification of No Shipments,” dated February 16, 2022.

On March 4, 2022, Cimtas informed Commerce that it: (1) had not made any reviewable shipments or sales of the subject merchandise to the United States during POR; and (2) had no physical entries and/or no reviewable entries of subject merchandise to the United States during this period.⁷

⁷ See Cimtas's Letter, “Welded Line Pipe from Turkey: No (Reviewable) Shipment Letter,” dated March 4, 2022 (Cimtas No Shipment Letter).

In April 2022, the domestic interested parties timely withdrew their requests for review with respect to 18 companies.⁸ As a result, Cimtas is the only company that remains subject to this review.

⁸ See Maverick Tube Corporation and IPSCO Tubulars Inc.'s Letter, “Welded Line Pipe from Turkey: Partial Withdrawal of Request for Administrative Review of Antidumping Duty Order,” dated April 20, 2022; and American Cast Iron Pipe Company, Dura-Bond Industries, and Stupp Corporation, a division of Stupp Bros., Inc.'s Letter, “Welded Line Pipe from Turkey: Partial Withdrawal of Request for Administrative Review,” dated April 21, 2022 (collectively, Withdrawal Request). For the list companies, for which the request for review was timely withdrawn, see the appendix to this notice.

On May 16, 2022, domestic interested parties requested that Commerce conduct verification in this administrative review.⁹

⁹ See ALPPA Welded Line Pipe Committee's Letter, “Welded Line Pipe from Turkey: Request for Verification,” dated May 16, 2022 (Verification Request).

Scope of the Order

The products covered by the Order are circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this Order.

The welded line pipe that is subject to the Order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the Order is dispositive.

Partial Rescission of Administrative Review

Pursuant to 19 CFR 351.213(d)(1), Commerce “will rescind an administrative review . . . in whole or in part, if a party that requested the review withdraws the request within 90 days of the date of publication of notice of initiation of the requested review.” On April 20, 2022, the domestic interested parties timely withdrew their requests for an administrative review of the 18 companies listed in the appendix to this notice.¹⁰ Because no other party requested a review of these companies, we are rescinding this review, in part, with respect to these companies, pursuant to 19 CFR 351.213(d)(1).

¹⁰ See Withdrawal Request.

Preliminary Determination of No Shipments

Based on CBP's response to Commerce's no-shipment inquiry ¹¹ and the certifications provided by Cimtas,¹² we preliminarily determine that the company had no shipments and, therefore, no reviewable entries, of subject merchandise during the POR. Consistent with Commerce's practice, we will not rescind the review with respect to Cimtas, but rather, will complete the review and issue appropriate instructions to CBP based on the final results of the review.¹³

¹¹ See Memorandum, “Welded Line Pipe from the Republic of Turkey; No Shipment Inquiry for Cimtas Boru Imalatlari ve Ticaret, Ltd. Sti. during the period 12/01/2020 through 11/30/2021,” dated July 22, 2022.

¹² See Cimtas No Shipment Letter.

¹³ See, e.g., Polyethylene Terephthalate Film, Sheet, and Strip from Taiwan: Preliminary Results of Antidumping Duty Administrative Review and Preliminary Determination of No Shipments; 2018-2019, 85 FR 74673 (November 23, 2020), unchanged in Polyethylene Terephthalate Film, Sheet, and Strip (PET Film) from Taiwan: Final Results of Antidumping Duty Administrative Review; 2018-2019, 86 FR 14311 (March 15, 2021).

Verification

Pursuant to 19 CFR 351.307(b)(1)(v), Commerce “will verify factual information” relied upon in the final results of an administrative review if: (A) “{a} domestic interested party, not later than 100 days after the date of publication of the notice of initiation of review, submits a written request for verification; and (B) {Commerce} conducted no verification . . . during either of the two immediately preceding administrative reviews.” ¹⁴ 19 CFR 351.307(b)(1)(iv) also states that Commerce will verify if the Secretary decides that “good cause for verification exists.” Here, Commerce received the domestic interested parties' verification request in a timely manner. However, Commerce verified the information provided by Cimtas in the immediately preceding administrative review of this Order. Thus, pursuant 19 CFR 351.307(b)(1)(v)(B), Commerce will not verify the relevant factual information in the instant review.

¹⁴ See 19 CFR 351.307(b)(1)(v).

Public Comment

Interested parties are invited to comment on these preliminary results and may submit case briefs or other written comments to Commerce no later than 30 days after the date of publication of this notice.¹⁵ Rebuttal briefs, limited to issues raised in case briefs, may be submitted no later than seven days after the deadline for case briefs.¹⁶ Pursuant to 19 CFR 351.309(c)(2) and (d)(2), parties who submit case or rebuttal briefs in this proceeding are encouraged to submit with each argument: (1) a statement of the issue; (2) a brief summary of the argument; and (3) a table of authorities.

¹⁵ See 19 CFR 351.309(c)(1)(ii).

¹⁶ See 19 CFR 351.309(d)(1) and (2); see also Temporary Rule Modifying AD/CVD Service Requirements Due to COVID-19; Extension of Effective Period, 85 FR 41363 (July 10, 2020) (Temporary Rule).

Interested parties who wish to request a hearing must submit a written request to the Assistant Secretary for Enforcement and Compliance, U.S. Department of Commerce, filed electronically via Enforcement and Compliance's Antidumping and Countervailing Duty Centralized Electronic Service System (ACCESS) within 30 days after the date of publication of this notice.¹⁷ Hearing requests should contain: (1) the party's name, address, and telephone number; (2) the number of participants; and (3) a list of issues to be discussed. Issues raised in the hearing will be limited to issues raised in the briefs. If a request for a hearing is made, Commerce intends to hold the hearing at a date and time to be determined.¹⁸ Parties should confirm the date, time, and location of the hearing two days before the scheduled date.

¹⁷ See 19 CFR 351.310(c).

¹⁸ See 19 CFR 351.310(d).

Parties are reminded that all briefs and hearing requests must be filed electronically using ACCESS by 5 p.m. eastern time on the established deadline. Note that Commerce has temporarily modified certain of its requirements for serving documents containing business proprietary information, until further notice.¹⁹

¹⁹ See Temporary Rule.

Commerce intends to issue the final results of this administrative review, including the results of its analysis of issues raised in any written briefs, not later than 120 days after the date of publication of this notice in the Federal Register, unless otherwise extended.²⁰

²⁰ See section 751(a)(3)(A) of the Act.

Assessment

Commerce will instruct CBP to liquidate any suspended entries for the 18 companies listed in the appendix to this notice at the rate in effect at the time of entry. Commerce intends to issue assessment instructions to CBP no earlier than 35 days after the date of publication of this recission notice in the Federal Register.

For Cimtas, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

If the final results of review continue to find that Cimtas had no shipments during the POR, there will be no change to the existing cash deposit requirements.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i) of the Act and 19 CFR 351.213(d).

Dated: August 23, 2022.
Lisa W Wang,
Assistant Secretary for Enforcement and Compliance.

Appendix

1. Borusan Istikbal Ticaret

2. Borusan Mannesmann Boru Sanayi ve Ticaret A.S.²¹

²¹ The Initiation Notice inadvertently misspelled Borusan Mannesmann Boru Sanayi ve Ticaret A.S. as “Borusan Mannesmann Boru Sanayi ve Ticaret A.”

3. Cayirova Boru Sanayii ve Ticaret A.S.

4. Emek Boru Makina Sanayi ve Ticaret A.S.

5. Erbosan Erciyas Tube Industry and Trade Co. Inc.

6. Erciyas Celik Boru Sanayii A.S.

7. Guven Celik Boru Sanayii ve Ticaret Ltd. Sti.

8. Has Altinyagmur celik Boru Sanayii ve Ticaret Ltd. Sti.

9. HDM Steel Pipe Industry & Trade Co. Ltd.

10. Metalteks Celik Urunleri Sanayii

11. MMZ Onur Boru Profil Uretim Sanayii ve Ticaret A.S.

12. Noksel Steel Pipe Co. Inc.

13. Ozbal Celik Boru

14. Toscelik Profile and Sheet Industry, Co.

15. Tosyali Dis Ticaret A.S.

16. Umran Celik Boru Sanayii

17. YMS Pipe & Metal Sanayii A.S.

18. Yucelboru Ihracat Ithalat Pazzarlam

[FR Doc. 2022-18677 Filed 8-29-22; 8:45 am]

BILLING CODE 3510-DS-P